DEPARTMENT OF ENERGY

Federal Energy Regulatory Commission

[Project No. 13144-000]

Mananook Associates; Notice of Preliminary Permit Application Accepted for Filing and Soliciting Comments, Motions To Intervene, and Competing Applications

August 19, 2008.

On March 19, 2008, and supplemented on August 4, 2008, Mananook Associates filed an application, pursuant to section 4(f) of the Federal Power Act, proposing to study the feasibility of the Grand Manan Channel Project, located in the Grand Manan Channel in Washington County, Lubec, Maine. The project uses no dam or impoundment.

The proposed project would consist of: (1) 1,377 proposed tidal current generating units, with a total installed capacity of 72-megawatts, (2) a proposed transmission line, and (3) appurtenant facilities. The project is estimated to have an annual generation of 158-gigawatt-hours, which would be sold to a local utility.

Applicant Contact: Mr. Fred J. Moore, III, Mananook Associates, P.O. Box 69, Perry, Maine 04667, phone 207-733-5513.

FERC Contact: Patricia W. Gillis (202) 502-8735.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13144) in the docket number field to access the document. For assistance, call toll-free 1-866-208-3372.

Kimberly D. Bose,
Secretary.

[FR Doc. E8-19684 Filed 8-25-08; 8:45 am]

BILLING CODE 6717-01-P